NUCLEAR REGULATORY COMMISSION

[Docket Nos. 50-445 and 50-446; NRC-2009-0401]

Luminant Generation Company LLC; Notice of Withdrawal of Application for Amendment to Facility Operating License

The U.S. Nuclear Regulatory Commission (the Commission) has granted the request of Luminant Generation Company LLC (the licensee) to withdraw its August 28, 2007 application, as supplemented by letters dated June 30 and December 11, 2008, and January 22, February 17, and July 27, 2009, for proposed amendment to Facility Operating License Nos. NPF-87 and NPF-89 for the Comanche Peak Steam Electric Station (CPSES), Units 1 and 2, located in Somervell County, Texas.

The proposed amendment would have revised Technical Specification (TS) 1.0, “Use and Application” and TS 3.7.17, “Spent Fuel Assembly Storage,” for the CPSES, Units 1 and 2. Specifically, the request was to revise the rated thermal power from 3458 megawatts thermal (MWT) to 3612 MWT and for approval of the revised spent fuel pool (SFP) criticality safety analysis and the associated changes to TS 3.7.17 for revised spent fuel storage configurations. By letter dated June 27, 2008 (Agencywide Documents Access and Management System (ADAMS) Accession No. ML081510157), the U.S. Nuclear Regulatory Commission (NRC) approved changes to TS 1.0, “Use and Application” to revise the rated thermal power level from 3458 MWT to 3612 MWT.

The Commission had previously issued a Notice of Consideration of Issuance of Amendment published in the Federal Register on October 23, 2007 (72 FR 60034), for amendments to TS 1.0 and TS 3.7.17. The amendment to TS 1.0 to revise the rated thermal power level from 3458 MWT to 3612 MWT was approved by NRC by letter dated June 27, 2008. However, by letter dated August 20, 2009, the licensee withdrew the proposed change to TS 3.7.17, “Spent Fuel Assembly Storage.”

For further details with respect to this action, see the application for amendment dated August 28, 2007 application, as supplemented by letters dated June 30 and December 11, 2008, and January 22, February 17, and July 27, 2009, and the licensee's letter dated August 20, 2009, which withdrew the application for license amendment to TS 3.7.17. Documents may be examined, and/or copied for a fee, at the NRC's Public Document Room (PDR), located at One White Flint North, Public File Area O1 F21, 11555 Rockville Pike (first floor), Rockville, Maryland. Publicly available records will be accessible electronically from the Agencywide Documents Access and Management System (ADAMS) Public Electronic Reading Room on the Internet at the NRC Web site, http://www.nrc.gov/reading-rm/adams.html. Persons who do not have access to ADAMS or who encounter problems in accessing the documents located in ADAMS should contact the NRC PDR Reference staff by telephone at 1-800-397-4209, or 301-415-4737 or by e-mail to pdr.resource@nrc.gov.

Dated at Rockville, Maryland, this 21st day of August 2009.
For the Nuclear Regulatory Commission.
Balwant K. Singal,
Senior Project Manager, Plant Licensing Branch IV, Division of Operating Reactor Licensing, Office of Nuclear Reactor Regulation.

[FR Doc. E9-22128 Filed 9-14-09; 8:45 am]

BILLING CODE 7590-01-P